DEPARTMENT OF ENERGY

Federal Energy Regulatory Commission

[Docket No. CP10-14-000]

Kern River Gas Transmission Company; Notice of Availability of the Draft Environmental Impact Statement for the Proposed Apex Expansion Project

March 26, 2010.

The staff of the Federal Energy Regulatory Commission (FERC or Commission) has prepared a draft environmental impact statement (EIS) for the Apex Expansion Project proposed by Kern River Gas Transmission Company (Kern River) in the above-referenced docket. Kern River requests authorization to expand its natural gas pipeline system in Wyoming, Utah, and Nevada, to transport an additional 266 million cubic feet per day of natural gas from existing receipt points in southwestern Wyoming, to existing delivery connections in southern Nevada.

The draft EIS assesses the potential environmental effects of the construction and operation of the Apex Expansion Project in accordance with the requirements of the National Environmental Policy Act of 1969 (NEPA). The FERC staff concludes that approval of the proposed project would have some adverse environmental impact; however, these impacts would be reduced to less-than-significant levels with the implementation of Kern River's proposed mitigation and the additional measures we recommend in the draft EIS.

The Bureau of Land Management (BLM), the Forest Service (USFS), and the Bureau of Reclamation (Reclamation) participated as cooperating agencies in the preparation of the EIS. Cooperating agencies have jurisdiction by law or special expertise with respect to resources potentially affected by the proposal and participate in the NEPA analysis. The cooperating agencies will adopt and use the EIS to consider the issuance of right-of-way grants on federally administered lands. While the conclusions and recommendations presented in the draft EIS were developed with input from the cooperating agencies, the agencies will present their own conclusions and recommendations in their respective Records of Decision for the project.

The draft EIS addresses the potential environmental effects of the construction and operation of the following project facilities:

• Approximately 28 miles of 36-inch-diameter natural gas pipeline loop ¹ extending southwest in Utah from Morgan County, through Davis to Salt Lake County;

¹ A loop is a segment of pipe that is usually installed adjacent to an existing pipeline and connected to it at both ends. The loop allows more gas to be moved through the system.

• One new 30,000 horsepower compressor station (known as the Milford Compressor Station) in Beaver County, Utah;

• Modifications to four existing compressor stations to add additional compression: The Coyote Creek Compressor Station located in Uinta County, Wyoming; the Elberta Compressor Station located in Utah County, Utah; the Fillmore Compressor Station located in Millard County, Utah; and the Dry Lake Compressor Station located in Clark County, Nevada;

• Six mainline valves; and

• Three pig ² launcher and two pig receiver facilities.

² A pig is an internal tool that can be used to clean and dry a pipeline and/or to inspect it for damage or corrosion.

The draft EIS has been placed in the public files of the FERC and is available for public viewing on the FERC's Web site at http://www.ferc.gov. A limited number of copies are available for distribution and public inspection at: Federal Energy Regulatory Commission, Public Reference Room, 888 First Street, NE., Room 2A, Washington, DC 20426, (202) 502-8371.

Copies of the draft EIS have been mailed to federal, state, and local government representatives and agencies; elected officials; environmental and public interest groups; Native American tribes; local newspapers and libraries in the project area; intervenors to the FERC's proceeding; and potentially affected landowners and other interested individuals and groups. Paper copy versions of this EIS were mailed to those specifically requesting them; all others received a CD version.

Route Variations Recommended by FERC in the Draft EIS

Some landowners are receiving the draft EIS because their property has been identified as potentially being affected by the Mueller Park or Salt Lake III Route Variations recommended by FERC staff to avoid or lessen environmental impacts along Kern River's proposed pipeline route. Refer to sections 3.5.6 and 3.5.7 of the draft EIS for discussions of the Mueller Park and Salt Lake III Route Variations, respectively. The Commission staff wants to ensure that all potentially affected landowners have the opportunity to participate in the environmental review process. Therefore, staff is soliciting comments to assist with the environmental analysis of these route variations, which will be presented in the final EIS.

Comment Procedures and Public Meetings

Any person wishing to comment on the draft EIS may do so. To ensure consideration of your comments on the proposal in the final EIS, it is important that the Commission receive your comments before May 17, 2010.

For your convenience, there are four methods you can use to submit your comments to the Commission. In all instances, please reference the project docket number (CP10-14-000) with your submission. The Commission encourages electronic filing of comments and has dedicated eFiling expert staff available to assist you at (202) 502-8258 or efiling@ferc.gov. Please carefully follow these instructions so that your comments are properly recorded.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;”

(3) You may file a paper copy of your comments at the following address: Kimberly D. Bose, Secretary, Federal Energy Regulatory Commission, 888 First Street, NE., Room 1A, Washington, DC 20426.

(4) In lieu of sending written or electronic comments, the Commission invites you to attend one of the public comment meetings its staff will conduct in the project area to receive comments on the draft EIS. Interested groups and individuals are encouraged to attend and present oral comments on the draft EIS. Transcripts of the meetings will be prepared. All meetings will begin at 7 p.m., and are scheduled as follows:

Date | Location
Tuesday, April 27, 2010 | Millcreek Junior High School, 245 East 1000 South, Bountiful, UT 84010 801-402-6200
Wednesday, April 28, 2010 | Morgan County Courthouse Auditorium, 48 West Young Street, Morgan, UT 84050, 801-845-4027

Although your comments will be considered by the Commission, simply filing comments will not serve to make the commenter a party to the proceeding. Any person seeking to become a party to the proceeding must file a motion to intervene pursuant to Rule 214 of the Commission's Rules of Practice and Procedures (18 CFR part 385.214).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Questions?

Additional information about the project is available from the Commission's Office of External Affairs, at (866) 208-FERC or on the FERC Web site (http://www.ferc.gov) using the eLibrary link. Click on the eLibrary link, click on “General Search,” and enter the docket number excluding the last three digits in the Docket Number field (i.e., CP10-14-000). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/esubscribenow.htm.

Kimberly D. Bose,
Secretary.

[FR Doc. 2010-7301 Filed 3-31-10; 8:45 am]

BILLING CODE 6717-01-P